DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-1243.

Project: Minority AIDS Initiative-Management Reporting Tools (MAI-MRTs)—(OMB No. 0930-0357)—Revision

The Substance Abuse and Mental Health Services Administration (SAMHSA), Center for Substance Abuse Prevention (CSAP) is requesting from the Office of Management and Budget (OMB) approval for the revision of Minority AIDS Initiative (MAI) monitoring tools, which includes both youth and adult questionnaires as well as the quarterly progress report. This revision includes the inclusion of new cohorts, substantial revisions to the youth and adult questionnaires, updates to the data used to estimate response rates and expected numbers of participants by service duration (see Table 1 below).

The cohorts of grantees funded by the MAI and included in this clearance request are:

• Capacity Building Initiative (CBI) 2015

• Capacity Building Initiative (CBI) 2016

• Capacity Building Initiative (CBI) 2017

• Capacity Building Initiative (CBI) 2018

• Prevention Navigators 2017

• Secretary's Minority AIDS Initiative Fund (SMAIF) 2018

The target population for the MAI grantees will be at-risk minority adolescents and young adults. All MAI grantees are expected to report their monitoring data using SAMHSA's Strategic Prevention Framework (SPF) to target minority populations, as well as other high risk groups residing in communities of color with high prevalence of Substance Abuse and HIV/AIDS. The primary objectives of the monitoring tools include:

• Assess the success of the MAI in reducing risk factors and increasing protective factors associated with the transmission of the Human Immunodeficiency Virus (HIV), Hepatitis C Virus (HCV), and other sexually-transmitted diseases (STD).

• Measure the effectiveness of evidence-based programs and infrastructure development activities such as: Outreach and training, mobilization of key stakeholders, substance abuse and HIV/AIDS counseling and education, testing, referrals to appropriate medical treatment and/or other intervention strategies (i.e., cultural enrichment activities, educational and vocational resources, social marketing campaigns, and computer-based curricula).

• Investigate intervention types and features that yield the best outcomes for specific population groups.

• Assess the extent to which access to health care was enhanced for population groups and individuals vulnerable to behavioral health disparities residing in communities targeted by funded interventions.

• Assess the process of adopting and implementing the SPF with the target populations.

Revisions to the monitoring tools include the following:

Quarterly Progress Report (QPR)

• Removed Numbers Served, HIV Testing, VH Testing, VH Vaccination, and Referrals for Services Not Funded by MAI funds from the Implementation Section. These data will be collected via the participant level

• Added opioid items to lists for targeted outcome measures, name of direct services list, indirect services—environmental strategy list and environmental strategy purpose

• Added Promising Approaches and Innovations Section (2 questions)

• Added upload screen for Final Evaluation Report (for closeout grantees only) tool

The following two tools have been added to this data collection, but were approved under OMB No. 0930-0347 with the exception of the new items listed below. Questions removed were non-essential.

Adult Questionnaire

• Aligned questions with the Center for Substance Abuse Treatment (CSAT)/Center for Mental Health Service (CMHS) tools & the Rapid HIV Hepatitis Form, where possible

• Removed some demographic questions related to language, education, employment status, health, military details, and relationship status

• Removed some knowledge & attitude questions about peer behavior & how they feel about it, sex refusal skills, & HIV knowledge

• Removed some behavior questions related to other tobacco products, electronic vapor products, synthetic marijuana, mental health, and experience with alcohol use

• Added opioid drug questions

• Added questions to capture details on the intervention and the referrals to the record management section (completed by grantee staff)

Youth Questionnaire

In addition to all items listed above, on the youth questionnaire, SAMHSA also removed non-essential questions related to:

• Interest in school & feelings about ethnic identity

• Relationships with parents or guardians

• Friend substance abuse and sexual behavior

• Exposure to prevention education messages

The following two tools have been deleted from this data collection:

• Indirect Service Outcomes (ISO)

• HIV Testing Retrospective Reporting Tool

Revision made per the 60-day comment period:

(1) Ask about cigarettes and other tobacco products separately. (See questions 26 in the adult questionnaire and 23 in the youth questionnaire for the revisions)

(2) Include brand examples in the help text of the questionnaires to clarify what types of vapor products may be included. (See question 24 in the youth questionnaire and question 27 in the adult questionnaire for the revisions)

Table 1—Estimates of Annualized Hour Burden
Type of respondent activity | Number of respondents | Responses per respondent | Total responses | Hours per response | Total burden hours
Quarterly Progress Report | 155 | 4 | 620 | 4 | 2,480
Adult questionnaire | 12,000 | 2 | 24,000 | .20 | 4,800
Youth questionnaire | 3,000 | 2 | 6,000 | .20 | 600
Total | 15,155 |  | 30,620 |  | 7,880

Written comments and recommendations concerning the proposed information collection should be sent by December 24, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-25559 Filed 11-21-18; 8:45 am]

BILLING CODE 4162-20-P